DEPARTMENT OF HEALTH AND HUMAN SERVICES

Food and Drug Administration

[Docket No. 01N-0437]

Agency Information Collection Activities; Submission for OMB Review; Comment Request; New Animal Drugs for Investigational Use; Correction

AGENCY: Food and Drug Administration, HHS.

ACTION: Notice; correction.

SUMMARY: The Food and Drug Administration (FDA) is correcting a notice that appeared in the Federal Register of January 14, 2002 (67 FR 1772). The document announced that a proposed collection of information had been submitted to the Office of Management and Budget (OMB) for review and clearance under the Paperwork Reduction Act of 1995. The document was published with an incorrect OMB control number. This document corrects that error.

FOR FURTHER INFORMATION CONTACT: Doris Tucker, Office of Policy, Planning, and Legislation (HF-27), Food and Drug Administration, 5600 Fishers Lane, Rockville, MD 20857, 301-827-7010.

SUPPLEMENTARY INFORMATION: In FR Doc. 02-855, appearing on page 1772 in the Federal Register of Monday, January 14, 2002, the following correction is made:

1. On page 1772, in the second column, in the fourteenth line, “0910-0017” is corrected to read “0910-0117”.

Dated: March 5, 2002.
Margaret M. Dotzel,
Associate Commissioner for Policy.

[FR Doc. 02-5922 Filed 3-12-02; 8:45 am]

BILLING CODE 4160-01-S